ENVIRONMENTAL PROTECTION AGENCY

40 CFR Part 49, 51, 52, 60, 70, and 71

[EPA-HQ-OAR-2013-0685; EPA-HQ-OAR-2010-0505; EPA-HQ-OAR-2014-0606; EPA-HQ-OAR-2015-0216; FRL-9937-01-OAR]

Source Determination for Certain Emission Units in the Oil and Natural Gas Sector; Oil and Natural Gas Sector: Emission Standards for New and Modified Sources; Review of New Sources and Modifications in Indian Country: Federal Implementation Plan for Managing Air Emissions From True Minor Sources Engaged in Oil and Natural Gas Production in Indian Country

AGENCY: Environmental Protection Agency (EPA).

ACTION: Proposed rule; extension of comment period.

SUMMARY: On September 18, 2015, the Environmental Protection Agency (EPA) proposed three rules titled, “Source Determination for Certain Emission Units in the Oil and Natural Gas Sector,” “Oil and Natural Gas Sector: Emission Standards for New and Modified Sources,” and “Review of New Sources and Modifications in Indian Country: Federal Implementation Plan for Managing Air Emissions from True Minor Sources Engaged in Oil and Natural Gas Production in Indian Country.” The EPA is extending the comment period on the three proposed rules that was scheduled to close on November 17, 2015. The EPA has received several letters from trade and business organizations, states and tribes requesting additional time to review and comment on the three proposed rule revisions.

DATES: The public comment period for the three proposed rules published in the Federal Register on September 18, 2015 (80 FR 56579, 80 FR 56593, and 80 FR 56553), is being extended. Written comments must be received on or before December 4, 2015.

ADDRESSES: The EPA has established separate dockets for each of the three proposed rulemakings (available at http://www.regulations.gov). For the proposed rulemaking titled, “Source Determination for Certain Emission Units in the Oil and Natural Gas Sector,” the Docket ID No. is EPA-HQ-OAR-2013-0685. For the proposed rulemaking titled, “Oil and Natural Gas Sector: Emission Standards for New and Modified Sources,” the Docket ID No. is EPA-HQ-OAR-2010-0505. For the proposed rulemaking titled, “Review of New Sources and Modifications in Indian Country: Federal Implementation Plan for Managing Air Emissions from True Minor Sources Engaged in Oil and Natural Gas Production in Indian Country,” the Docket ID No. is EPA-HQ-OAR-2014-0606. Information on all of these actions is posted at http://www.epa.gov/airquality/oilandgas/actions.html. Submit your comments, identified by the appropriate Docket ID, to the Federal eRulemaking Portal: http://www.regulations.gov. Follow the online instructions for submitting comments. Once submitted, comments cannot be edited or withdrawn. The EPA may publish any comment received to its public docket. Do not submit electronically any information you consider to be Confidential Business Information (CBI) or other information whose disclosure is restricted by statute. If you need to include CBI as part of your comment, please visit http://www.epa.gov/dockets/comments.html for instructions. Multimedia submissions (audio, video, etc.) must be accompanied by a written comment. The written comment is considered the official comment and should include discussion of all points you wish to make.

For additional submission methods, the full EPA public comment policy, and general guidance on making effective comments, please visit http://www.epa.gov/dockets/comments.html.

FOR FURTHER INFORMATION CONTACT: For additional information on this action, contact Cheryl Vetter, Office of Air Quality Planning and Standards, Environmental Protection Agency (C504-03), Research Triangle Park, North Carolina 27711; telephone number (919) 541-4391; fax number (919) 541-5509; email address: vetter.cheryl@epa.gov.

SUPPLEMENTARY INFORMATION: After considering the requests to extend the public comment period received from various trade and business organizations, states and tribes, the EPA has decided to extend the public comment period until December 4, 2015. This extension will ensure that the public has additional time to review the three proposed rules.

Dated: November 3, 2015.
Stephen D. Page,
Director, Office of Air Quality Planning and Standards.

[FR Doc. 2015-28764 Filed 11-12-15; 8:45 am]

BILLING CODE 6560-50-P